DEPARTMENT OF TRANSPORTATION

National Highway Traffic Safety Administration

Reports, Forms and Record Keeping Requirements Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on December 10, 2004, Vol.69, No.237, Pages 71871-71872.

DATES: Comments must be submitted on or before May 11, 2005.

FOR FURTHER INFORMATION CONTACT: Ron Filbert at the National Highway Traffic Safety Administration, Office of Injury Control Operations & Resources (NTI-200), 202-366-2701. 400 Seventh Street, SW., Rm. 5125, Washington, DC 20590.

SUPPLEMENTARY INFORMATION:

National Highway Traffic Safety Administration

Title: 23 CFR, Part 1345, Occupant Protection Incentive Grant—Section 405.

OMB Number: 2127-0600.

Type of Request: Extension to a previously approved collection of information.

Abstract: An occupant protection incentive grant is available to states that can demonstrate compliance with at least four of six criteria. Demonstration of compliance requires submission of copies of relevant seat belt and child passenger protection statutes, plan and /or reports on statewide seatbelt enforcement and child seat education programs and possibly some traffic court records.

Affected Public: The 50 States, the District of Columbia, Puerto Rico, American Samoa, Guam, Northern Marianas and Virgin Islands.

Estimated Total Annual Burden: 1,736.

ADDRESSES: Send comments, within 30 days, to the Office of Information and Regulatory Affairs, Office of Management and Budget, 725-17th Street, NW., Washington, DC 20503, Attention NHTSA Desk Officer.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology. A Comment to OMB is most effective if OMB receives it within 30 days of publication.

Issued in Washington, DC, on April 1, 2005.
Marlene Markison,
Associate Administrator for Injury Control Operations & Resources.

[FR Doc. 05-7205 Filed 4-8-05; 8:45 am]

BILLING CODE 4910-59-P